DEPARTMENT OF TRANSPORTATION

Federal Aviation Administration

[Docket No. 2120-0076]

Agency Information Collection Activities: Requests for Comments; Clearance of Renewed Approval of Information Collection: Renewal of AVIATOR Customer Satisfaction Survey

AGENCY: Federal Aviation Administration (FAA), DOT.

ACTION: Notice and request for comments.

SUMMARY: In accordance with the Paperwork Reduction Act of 1995, FAA invites public comments about our intention to request the Office of Management and Budget (OMB) approval to renew an information collection. The collection involves on-line, electronic applicant (customer) answers to standard survey questions. The questions are presented as multiple choice selections and free-form text areas where applicants can choose their desired answer and, if they wish, add additional comments. The information to be collected will be used to and is necessary to gage the level of user satisfaction with the AVIATOR system. Additionally, the surveys are used to obtain benchmarking and feedback to ensure quality.

DATES: Written comments should be submitted by April 5, 2021.

ADDRESSES: Please send written comments:

By Electronic Docket: www.regulations.gov (Enter docket number into search field).

By mail: Toni Main-Valentin, Federal Aviation Administration, AHP-100, 6500 S MacArthur Blvd., Oklahoma City, OK 73169.

By email: toni.main-valentin@faa.gov.

Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information. The agency will summarize and/or include your comments in the request for OMB's clearance of this information collection.

FOR FURTHER INFORMATION CONTACT: Toni Main-Valentin by email at: Toni.Main-Valentin@faa.gov; phone: 405-954-0870.

SUPPLEMENTARY INFORMATION:

OMB Control Number: 2120-0076.

Title: AVIATOR Customer Satisfaction Survey.

Form Numbers: N/A (electronic).

Type of Review: Renewal of an information collection.

Background: The Government Performance and Results Act of 1993 (GPRA) Section 2(b)(3) requires agencies to “improve Federal program effectiveness and public accountability by promoting a new focus on results, service quality, and customer satisfaction”. In addition, as stated in the White House “Memorandum for Heads of Executive Departments and Agencies” regarding Executive Order No. 12862, “the actions the order prescribes, such as surveying customers, surveying employees, and benchmarking, shall be continuing agency activities”. This collection supports the above directives as well as the DOT strategic goal of Organizational Excellence.

In compliance with the Government Paperwork Elimination Act (GPEA), all of our data collection will be 100% electronic using an online form; Applicants will be asked to complete the survey just before they exit the system. This survey is designed to identify potential problems with FAA's automated staffing solutions, as well as to evaluate customer satisfaction with the on-line application process. The information is not gathered by any other collection. It will be difficult, if not impossible to improve our overall performance and customer satisfaction without using this survey.

Respondents: Completion of the Survey is completely optional. It is presented electronically to all individuals who apply on job vacancy announcements for FAA employment. If the applicant chooses not to complete the Survey at the time of application the Survey will be available if/when the individual returns to the AVIATOR system to update their job application or when they elect to review their application status.

Frequency: On every job vacancy announcement for each individual applicant (unless the individual completes the Survey on an announcement; in this situation, the Survey is no longer presented to the applicant for this vacancy announcement).

Estimated Average Burden per Response: We estimate that it will take each of our 138,953 (total for 2019) applicants three minutes to complete one survey for a total of 416,859 hours if all applicants choose to complete the survey. Statistics show that an average of 21.3% of the applicants (13,019 for 2019) complete a survey resulting in an estimate of 651 total hours.

The survey is presented in three sections; USAJobs portion of the application process, FAA portion of the application process, and the Overall Application Process. Both the AVIATOR and USAJobs Process sections begin with a question to determine if the applicant is a first-time user of the particular system (“Was this your first time applying for a job using the USAJOBS application process?” and “Was this your first time applying for a FAA job?”), followed by “Yes” and “No” optional answers.

In the USAJobs section, applicants are presented the set of statements below. They will be asked to give their level of agreement with each statement by selecting one of the following five choices: Strongly agree, agree, disagree, strongly disagree, or no basis to judge.

Applicant Statements:

(1) Overall, my satisfaction with the USAJOBS portion of this application process was positive.

(1) I was able to navigate around the USAJOBS website with little or no difficulty.

(2) I was able to complete and/or upload my resume in USAJOBS with little or no difficulty.

(3) I was able to successfully upload and attach my documents in USAJOBS with little or no difficulty.

(4) I was able to get assistance with USAJOBS as needed.

Applicants will also be given the opportunity to add additional comments in two separate text areas provided in this section.

In the AVIATOR section, applicants are presented the set of statements below. They will be asked to give their level of agreement with each statement by selecting one of the following five choices: Strongly agree, agree, disagree, strongly disagree, or no basis to judge.

Applicant Statements:

(1) Overall, my satisfaction with the FAA AVIATOR portion of this application process was positive.

(2) I was able to navigate around the FAA AVIATOR website with little or no difficulty.

(3) I was able to complete and submit the application with no difficulty (only applicable to applicants whose responses met the eligibility requirements of the position).

(4) The FAA AVIATOR system notified me when there was a problem with my application (applicable to applicants whose responses did NOT meet the eligibility requirements of the position).

(5) I was able to get assistance with the FAA AVIATOR system as needed.

Applicants will also be given the opportunity to add additional comments in two separate text areas provided in this section.

In the Overall Process section, applicants are presented the set of statements below. They will be asked to give their level of agreement with each statement by selecting one of the following five choices: Strongly agree, agree, disagree, strongly disagree, or no basis to judge.

Applicant Statements:

(1) The steps required to apply for the position were clear to me.

(2) The transition between USAJOBS and FAA AVIATOR system was seamless.

(3) I like being able to store my resumes and documents and attach them to my FAA job application(s).

(4) This online process will make it easier for me to apply to future jobs for the FAA.

Applicants will also be given the opportunity to add additional comments in a single text area in this section.

Estimated Total Annual Burden

Cost of the time burden for respondents: 13,019 respondents × 0.05 hours × $25.72/hour * = $16,742.43. (* Source: BLS Mean Hourly Wage for All Occupations, http://www.bls.gov/oes/current/oes_nat.htm#00-0000).

Issued in Washington, DC, on January 27, 2021.
Alpha Woodson-Smith,
Computer Scientist, Program Manager, Federal Aviation Administration, Office of Finance and Management (AFN), Information Technology Division (AIT), Enterprise Program Management Service, Business Management Portfolio (AEM-320).

[FR Doc. 2021-02130 Filed 2-1-21; 8:45 am]

BILLING CODE 4910-13-P